DEPARTMENT OF THE INTERIOR

Fish and Wildlife Service

[FWS-R8-ES-2009-N141; 80221-1112-0000-F2]

Amendment of the Clark County Multiple Species Habitat Conservation Plan and Issuance of an Amended Incidental Take Permit, Clark County, NV

AGENCY: Fish and Wildlife Service, Interior.

ACTION: Notice of intent to prepare an Environmental Impact Statement (EIS); and notice of public scoping meetings.

SUMMARY: We, the U.S. Fish and Wildlife Service (Service), are advising the public that we intend to gather information necessary to prepare an EIS, under the National Environmental Policy Act (NEPA), on the proposed amendment of the Clark County Multiple Species Habitat Conservation Plan (MSHCP) and Incidental Take Permit (ITP). The proposed amendment is being prepared under section 10(a)(1)(B) of the Endangered Species Act of 1973, as amended. The Permittees are proposing to increase the amount of species habitat disturbance that is authorized under the existing MSHCP and ITP, expand the conservation program to minimize and mitigate for the increased disturbance, reduce the number of covered species, and revise the permit term of the MSHCP Amendment to 50 years. We provide this notice to obtain suggestions, comments, and useful information from other agencies and the public on the scope of the document, including the significant issues deserving of study, the range of alternatives, and the range of impacts to be considered.

DATES: Written comments must be received on or before October 30, 2009. Four public scoping meetings will be held on:

1. Monday, October 19, 2009, from 6 p.m. to 8 p.m., Las Vegas, NV.

2. Wednesday, October 21, 2009, from 6 p.m. to 8 p.m., Searchlight, NV.

3. Thursday, October 22, 2009, from 6 p.m. to 8 p.m., Henderson, NV.

4. Monday, October 26, 2009, from 6 p.m. to 8 p.m., Overton, NV.

ADDRESSES: Public meetings will be held at the following locations:

1. Monday, October 19, 2009, at the Clark County Library, Jewel Box Theater, 1401 East Flamingo Road, Las Vegas, NV 89119.

2. Wednesday, October 21, 2009, at the Searchlight Community Center, 200 Michael Wendell Way, Searchlight, NV 89046.

3. Thursday, October 22, 2009, at the PBS&J, 2270 Corporate Circle, Henderson, NV 89074.

4. Monday, October 26, 2009, at the Moapa Valley Community Center, 320 North Moapa Valley Boulevard, Overton, NV 89040.

Information, written comments, or questions related to the preparation of the EIS and the NEPA process should be submitted to Robert D. Williams, Nevada Fish and Wildlife Office, 4701 North Torrey Pines Drive, Las Vegas, NV 89130, facsimile: 702-515-5231.

FOR FURTHER INFORMATION CONTACT: Jeri Krueger, Habitat Conservation Planning Coordinator, Nevada Fish and Wildlife Office, 4701 North Torrey Pines Drive, Las Vegas, NV 89130; telephone: 702-515-5230.

SUPPLEMENTARY INFORMATION: This notice advises the public that the Service intends to gather information necessary to determine the scope of issues and impacts, and to formulate alternatives for the EIS related to the issuance of an amended ITP to Clark County, Nevada; the cities of Boulder City, Henderson, Las Vegas, Mesquite, and North Las Vegas, Nevada (Cities); and the Nevada Department of Transportation (NDOT).

Background

Section 9 of the Endangered Species Act, as amended (Act; 16 U.S.C. 1531 et seq.) and Federal regulations prohibit the “take” of a fish or wildlife species listed as endangered or threatened. Under the Act, the following activities are defined as take: To harass, harm, pursue, hunt, shoot, wound, kill, trap, capture or collect listed wildlife species, or attempt to engage in such conduct (16 U.S.C. 1532). However, under section 10(a)(1)(B) of the Act, we may issue permits to authorize “incidental take” of listed wildlife species. Incidental take is defined by the Act as take that is incidental to, and not the purpose of, carrying out an otherwise lawful activity. Regulations governing permits for endangered and threatened species are at 50 CFR 17.22 and 50 CFR 17.32, respectively.

Clark County, the Cities, and NDOT currently hold a permit for incidental take of 78 covered species (Permit # TE034927-0), including the Federally threatened desert tortoise (Gopherus agassizii) and the Federally endangered southwestern willow flycatcher (Empidonax traillii extimus), by the development of up to 145,000 acres in Clark County, Nevada. The Notice of Availability (65 FR 57366) for the Final HCP and EIS was published on September 22, 2000. The permit was effective as of February 1, 2001, and expires on January 31, 2031. Activities included in the MSHCP for the permitted projects include, but are not limited to, residential and commercial development, utility and transportation facilities and other capital improvements and operations activities, flood control, development of urban parks and recreation facilities.

Multiple Species Habitat Conservation Plan Amendment

Clark County, the Cities, and NDOT intend to request a permit amendment for the incidental take of covered species on up to 215,000 additional acres in Clark County, Nevada. Activities proposed to be covered by the MSHCP amendment are not likely to change from the existing MSHCP, and may include, but are not limited to, residential and commercial development, utility and transportation facilities and other capital improvements and operations activities, flood control, and development of urban parks and recreation facilities.

Section 10(a)(1)(B) of the Act provides for permitting non-Federal entities to incidentally take threatened and endangered species when the entity submits a conservation plan that specifies:

(i) The impact which will likely result from such taking;

(ii) What steps the applicant will take to minimize and mitigate such impacts, and the funding that will be available to implement such steps;

(iii) What alternative actions to such taking the applicant considered and the reasons why such alternatives are being utilized; and

(iv) Such other measures the Service may require as being necessary or appropriate for purposes of the plan.

If the Service finds, after opportunity for public comment, with respect to a permit application and the related conservation plan that:

(i) The taking will be incidental;

(ii) The applicant will, to the maximum extent practicable, minimize and mitigate the impacts of such taking;

(iii) The applicant will ensure that adequate funding for the plan will be provided;

(iv) The taking will not appreciably reduce the likelihood of survival and recovery of the species in the wild; and

(v) The measures, if any, required under subparagraph (A)(iv) will be met; and the Service has received such other assurance as the Service may require that the plan will be implemented, the Service shall issue the permit. The permit shall contain such terms and conditions as the Service deems necessary or appropriate to carry out the purposes of this paragraph, including, but not limited to, such reporting requirements as the Service deems necessary for determining whether such terms and conditions are being complied with.

The need for this action is based on the potential that activities proposed by Clark County, the Cities, and NDOT on lands under their respective jurisdictions could result in take of covered species, thus requiring an ITP. The proposed permit would allow authorized incidental take that is consistent with the conservation guidelines in the amended MSHCP.

Clark County, the Cities, and NDOT propose to develop and implement an amended MSHCP, as required by section 10(a)(2)(A) of the Act. The MSHCP would provide measures to minimize and mitigate the effects of the taking on the covered species and their habitats. The amended MSHCP would provide long-term protection for the covered species and key natural communities by maintaining or improving the habitat conditions and ecosystem functions necessary for their survival, and by ensuring that any incidental take of the covered species would not appreciably reduce the likelihood of the survival and recovery of those species in the wild. The purpose of the scoping meetings is to solicit input from the public on the issues and alternatives that should be addressed in the EIS. We will brief the public on the background of the MSHCP, alternative proposals under consideration for the draft EIS, and our role, as well as on the steps that we will take to develop the draft EIS for this conservation planning effort. At the scoping meeting, there will be an opportunity for the public to ask questions and also to provide written comments.

Clark County, the Cities, and NDOT propose that the following species that may occur within the proposed planning area will be included as covered species: desert tortoise, southwestern willow flycatcher, Las Vegas buckwheat (Eriogonum corymbosum var. nilesii), Yuma clapper rail (Rallus longirostris yumanensis), yellow-billed cuckoo (Coccyzus americanus), and Las Vegas bearpoppy (Arctomecon californica). Clark County, the Cities, and NDOT propose to reduce the total number of covered species, under the existing permit, but may also seek to address and cover additional rare and/or sensitive species, in addition to the six species listed above, that have some likelihood to occur within the planning area. The existing incidental take permit is for 78 species in Clark County, NV. Should any of the unlisted covered wildlife species become listed under the Act during the term of the permit, and the Service finds the species are adequately conserved by the amended MSHCP, take authorization for those species would become effective upon listing. Species may be added or deleted from the list of proposed covered species during the course of development of the MSHCP, based on further analysis, new information, agency consultation, and public comment. Numerous other listed and sensitive species for which Clark County, the Cities, and NDOT do not seek permit coverage may also benefit from the conservation measures to be included in the MSHCP through protection of similar or overlapping habitat conditions and ecosystem functions.

The MSHCP Amendment planning area includes all of Clark County, which encompasses about 5 million acres. Approximately 87 percent of Clark County is Federally managed, 3 percent is managed by State and local governments, and 10 percent is privately owned.

Environmental Impact Statement

An EIS will be prepared in compliance with the National Environmental Policy Act (42 U.S.C. 4321 et seq.) (NEPA). The EIS will consider the proposed action, the issuance of a section 10(a)(1)(B) permit amendment under the Act, No Action (no permit amendment), and a reasonable range of alternatives. A detailed description of the impacts of the proposed action and each alternative will be included in the EIS.

The proposed action and alternatives will be evaluated against the No Action alternative, which assumes that no changes or amendments will be made to the existing MSHCP and the existing permit will remain in effect. Several alternatives will be considered and analyzed, representing varying levels of conservation and impacts. The alternatives to be considered for analysis in the EIS may include: Variations in the scope of covered activities; variations in the location, amount, and type of conservation; variations in permit duration; or a combination of these elements. The EIS will also identify potentially significant direct, indirect, and cumulative impacts on biological resources, land use, air quality, water quality, water resources, socioeconomics, and other environmental issues that could occur with the implementation of the proposed actions and alternatives. For all potentially significant impacts, the EIS will identify avoidance, minimization, and mitigation measures to reduce these impacts, where feasible, to a level below significance.

Public Comments

The primary purpose of the scoping process is to identify important issues and alternatives raised by the public related to the proposed action. Written comments from interested parties are welcome to ensure that the full range of issues related to the permit request is identified. Comments will only be accepted in written form. You may submit written comments by mail or facsimile transmission (see ADDRESSES). Before including your address, phone number, e-mail address, or other personal identifying information in your comment, you should be aware that your entire comment—including your personal identifying information—may be made publicly available at any time. While you may ask us in your comment to withhold your personal identifying information from public review, we cannot guarantee that we will be able to do so.

Review of the EIS will be conducted in accordance with the requirements of NEPA, Council on Environmental Quality Regulations (40 CFR 1500-1508), the Administrative Procedure Act (5 U.S.C. 500 et seq.), other applicable regulations, and the Service's procedures for compliance with those regulations. This notice is being furnished in accordance with 40 CFR 1501.7 to obtain suggestions and information from other agencies and the public on the scope of issues and alternatives to be addressed in the EIS.

Reasonable Accommodation

Persons needing reasonable accommodations to attend and participate in public meetings should contact Jeri Krueger (see FOR FURTHER INFORMATION CONTACT) as soon as possible. To allow sufficient time to process requests, please call no later than one week before the public meeting. Information regarding this proposed action is available in alternative formats upon request.

Alexandra Pitts,
Pacific Southwest Region.

[FR Doc. E9-23556 Filed 9-29-09; 8:45 am]

BILLING CODE 4310-55-P